DEPARTMENT OF COMMERCE

National Oceanic and Atmospheric Administration

RIN: 0648-XC80

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Limited Access Privilege (LAP) Program Exploratory Workgroup in North Charleston, SC.

DATES: The meeting will take place October 16-17, 2007. See SUPPLEMENTARY INFORMATION for specific dates and times.

ADDRESSES: The meeting will be held at the Hilton Garden Inn, Charleston Airport, 5265 International Boulevard, North Charleston, SC 29418; telephone: (877) 782-9444 or (843) 308-9330; fax: (843) 308-9331.

FOR FURTHER INFORMATION CONTACT: Kim Iverson, Public Information Officer, South Atlantic Fishery Management Council, 4055 Faber Place Drive, Suite 201, North Charleston, SC 29405; telephone: (843) 571-4366 or toll free (866) SAFMC-10; fax: (843) 769-4520; email: kim.iverson@safmc.net.

SUPPLEMENTARY INFORMATION: Members of the LAP Program Exploratory Workgroup will meet from 1 p.m. - 5 p.m. on October 16, 2007, and from 8:30 a.m. - 3 p.m. on October 17, 2007.

The meeting is being convened to address issues relevant to the Council's consideration of implementing a LAP Program for the commercial snapper grouper fishery in the South Atlantic region.

Items for discussion by the Workgroup include: (1) development of options on LAP eligibility, (2) initial allocation methods, (3) initial allocation appeals process, and (4) regionalization of LAPs. The Workgroup will also receive also receive a presentation on British Columbia LAPs.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for auxiliary aids should be directed to the Council office (see FOR FURTHER INFORMATION CONTACT) 3 days prior to the meeting.

Note: The times and sequence specified in this agenda are subject to change.

Dated: September 18, 2007.
Tracey L. Thompson,
Acting Director, Office of Sustainable Fisheries, National Marine Fisheries Service.

[FR Doc. E7-18679 Filed 9-20-07; 8:45 am]

BILLING CODE 3510-22-S